ENVIRONMENTAL PROTECTION AGENCY

40 CFR Part 52

[Docket No. EPA-R02-OAR-2018-0197; FRL-9978-07—Region 2]

Adequacy Status of Motor Vehicle Emissions Budgets for the New York Portion of the New York-Northern New Jersey-Long Island, NY-NJ-CT, 2008 8-Hour Ozone Nonattainment Area

AGENCY: Environmental Protection Agency (EPA).

ACTION: Notification of adequacy.

SUMMARY: In this document, the Environmental Protection Agency (“EPA” or “Agency”) is notifying the public that the Agency has found that the 2017 motor vehicle emissions budgets (“budgets”) for volatile organic compounds (“VOCs”) and nitrogen oxides (“NOX”) submitted by the New York State Department of Environmental Conservation for the 2008 national ambient air quality standard (“NAAQS”) for ozone are adequate for transportation conformity purposes for the New York portions of the New York-Northern New Jersey-Long Island, NY-NJ-CT 8-hour ozone nonattainment area. The transportation conformity rule requires that the EPA conduct a public process and make an affirmative decision on the adequacy of these budgets before they can be used by metropolitan planning organizations in conformity determinations. As a result of this finding, upon the effective date of this notification of adequacy, the New York Metropolitan Transportation Council must use these budgets in future transportation conformity determinations. The budgets are contained in New York's November 10, 2017, state implementation plan submittal for the 2008 ozone NAAQS and are associated with the reasonable further progress milestone demonstration.

DATES: This finding is effective June 25, 2018.

FOR FURTHER INFORMATION CONTACT: Hannah Greenberg, Environmental Protection Agency Region 2, Air Programs Branch, 290 Broadway, 25th Floor, New York, New York 10007-1866; (212) 637-3829, greenberg.hannah@epa.gov.

SUPPLEMENTARY INFORMATION: Throughout this document, whenever “we,” “us,” or “our” is used, we mean the EPA.

This document is simply an announcement of a finding that we have already made. EPA Region 2 sent a letter to the New York State Department of Environmental Conservation on April 19, 2018, stating that the 2017 motor vehicle emissions budgets (“budgets”) in the submitted state implementation plan (“SIP”) for the 2008 national ambient air quality standard for ozone for the New York portions of the New York-Northern New Jersey-Long Island 8-hour ozone nonattainment area are adequate for transportation conformity purposes. These budgets are associated with the SIP's reasonable further progress milestone demonstration and must apply to future transportation conformity determinations conducted by the New York Metropolitan Transportation Council (“NYMTC”).

On November 10, 2017, the New York State Department of Environmental Conservation submitted a SIP revision for the New York portion of the New York-Northern New Jersey-Long Island, NY-NJ-CT, 2008 8-hour ozone nonattainment area. This revision to the SIP included 2017 summer day volatile organic compound (“VOC”) and nitrogen oxides (“NOX”) motor vehicle emissions budgets associated with the SIP's reasonable further progress demonstration. We announced availability of the plan and related budgets on the EPA's transportation conformity website on December 6, 2017, requesting comments by January 5, 2018. We received no comments in response to the adequacy review posting.

This finding will also be available at the EPA's conformity website: https://www.epa.gov/state-and-local-transportation/conformity-adequacy-review-region-2.

The motor vehicle emissions budgets are provided in Table 1 below.

Table 1—2017 Motor Vehicle Emissions Budgets for NYMTC
[Tons per year]
Year | VOC | NOX
2017 | 65.69 | 117.21

Transportation conformity is required by Clean Air Act section 176(c). The EPA's conformity rule requires that long-range transportation plans, transportation improvement programs, and transportation projects conform to a state's air quality SIP and establishes the criteria and procedures for determining whether or not they conform. Conformity to a SIP means that transportation activities will not produce new air quality violations, worsen existing violations, or delay timely attainment of the NAAQS.

The criteria the EPA uses to determine whether a SIP's motor vehicle emission budgets are adequate for conformity purposes are outlined in 40 CFR 93.118(e)(4). We have further described our process for determining the adequacy of submitted SIP budgets in 40 CFR 93.118(f), and we followed this rule in making our adequacy determination. Please note that an adequacy review is separate from the EPA's completeness review and should not be used to prejudge the EPA's ultimate action on the SIP. Even if we find a budget adequate, the SIP could later be disapproved.

Pursuant to 40 CFR 93.104(e), within 2 years of the effective date of this document, NYMTC and the U.S. Department of Transportation will need to demonstrate conformity to the new budgets. For demonstrating conformity to the budgets in this plan, the on-road motor vehicle emissions from implementation of the long-range transportation plan should be projected consistently with the budgets in this plan.

Authority: 42 U.S.C. 7401-7671 q.

Dated: April 30, 2018.
Peter D. Lopez,
Regional Administrator, Region 2.

[FR Doc. 2018-12303 Filed 6-7-18; 8:45 am]

BILLING CODE 6560-50-P